DEPARTMENT OF TRANSPORTATION

Research and Special Programs Administration

Office of Hazardous Materials Safety; Notice of Applications for Modifications of Exemption

AGENCY: Research and Special Programs Administration, DOT.

ACTION: List of Applications for Modification of Exemptions.

SUMMARY: In accordance with the procedures governing the application for, and the processing of, exemptions from the Department of Transportation's Hazardous Materials Regulations (49 CFR part 107, subpart B), notice is hereby given that the Office of Hazardous Materials Safety has received the applications described herein. This notice is abbreviated to expedite docketing and public notice. Because the sections affected, modes of transportations, and the nature of application have been shown in earlier Federal Register publications, they are not repeated here. Requests for modifications of exemptions (e.g., to provide for additional hazardous materials, packaging design changes, additional mode of transportation, etc.) are described in footnotes to the mode of transportation, etc.) are described in footnotes to the application number. Application numbers with the suffix “M” denote a modification request. These applications have been separated from the new applications for exemptions to facilitate processing.

DATES: Comments must be received on or before July 18, 2001.

ADDRESSES COMMENTS TO: Records Center, Research and Special Programs Administration, U.S. Department of Transportation, Washington, DC 20590.

Comments should refer to the application number and be submitted in triplicate. If confirmation of receipt of comments is desired, include a self-addressed stamped postcard showing the exemption number.

FOR FURTHER INFORMATION: Copies of the applications are available for inspection in the Records Center, Nassif Building, 400 7th Street SW, Washington, DC or at http://dms.dot.gov.

This notice of receipt of applications for modification of exemptions is published in accordance with Part 107 of the Federal hazardous materials transportation law (49 U.S.C. 5117(b); 49 CFR 1.53(b)).

Issued in Washington, DC, on June 28, 2001.
Ryan Posten,
Exemption Program Officer, Office of Hazardous Materials Exemptions and Approvals.

Application No. | Docket No. | Applicant | Modification of exemption
4884-M |  | Matheson Tri-Gas, East Rutherford, NJ ¹ | 4884
8995-M |  | BASF Corporation, Mount Olive, NJ ² | 8995
9421-M |  | Taylor-Wharton (Harsco Corporation), Harrisburg, PA ³ | 9421
9508-M |  | Callery Chemical Company, Pittsburgh, PA ⁴ | 9508
10798-M |  | Lyondell Chemical Co/EQUISTAR Chemicals, LP, Houston, TX ⁵ | 10798
11153-M |  | Pacific Northwest National Laboratory, Richland, WA ⁶ | 11153
11786-M |  | Dow Corning Corporation, Midland, MI ⁷ | 11786
12515-M |  | FIBA Technologies, Inc., Westboro, MA ⁸ | 12515
12628-M |  | Arbel Fauvet Rail (AFR), 59500 Douai, FR ⁹ | 12628
¹ To modify the exemption to authorize intermediate pick-up and deliveries of non-DOT specification cylinders, without an overpack, when transporting Class 8, Division 2.1, 2.2, 2.3 and 4.3 materials.
² To modify the exemption to allow for the transportation of an additional Division 2.2 material in non-DOT specification steel portable tanks.
³ To modify the exemption to eliminate the Fracture Toughness Test requirement and to authorize extending the initial requalification period from 5 years to 10 years of the non-DOT specification steel cylinders when used in specific non-corrosive, dry gas service.
⁴ To modify the exemption to authorize periodic external inspection of DOT-4BW240 cylinders as an alternative to periodic hydrostatic testing and inspeciton for the transportation of certain Division 4.3 materials.
⁵ To modify the exemption to allow for the transportation of additional Division 2.1 and Class 3 materials in DOT specification tank cars.
⁶ To modify the exemption to specifically authorize the transport of waste materials in combination packaging in the same transport vehicle with other Class/Division materials.
⁷ To modify the exemption to allow for the transportation of Division 2.1 and additional Class 8 materials in DOT Specification tank cars.
⁸ To modify the exemption to authorize, as an optional requirement, the installation of a manhole for non-DOT specification vacuum insulated portable tanks in oxygen service.
⁹ To reissue the exemption originally issued on an emergency basis authorizing the use of DOT Specification 51 tank containers that have been designed, constructed and “U” stamped in accordance with Section VIII, Division 1 of the ASME Code transporting Division 2.1 and 2.2 materials.

[FR Doc. 01-16663 Filed 7-2-01; 8:45 am]

BILLING CODE 4910-60-M